DEPARTMENT OF AGRICULTURE

Forest Service

Southern Montana Resource Advisory Committee

AGENCY: Forest Service, USDA.

ACTION: Notice of meeting.

SUMMARY: The Southern Montana Resource Advisory Committee (RAC) will meet with virtual attendance only. The committee is authorized under the Secure Rural Schools and Community Self-Determination Act (the Act) and operates in compliance with the Federal Advisory Committee Act. The purpose of the committee is to improve collaborative relationships and to provide advice and recommendations to the Forest Service concerning projects and funding consistent with Title II of the Act. RAC information and url for virtual meeting can be found at the following website: https://www.fs.usda.gov/main/custergallatin/workingtogether/advisorycommittees.

DATES: The meeting will be held on Thursday, June 4, 2020, at 9:00 a.m.

All RAC meetings are subject to cancellation. For status of the meeting prior to attendance, please contact the person listed under For Further Information Contact.

Location: The meeting will be held virutally with virtual attendance only. The url for the meeting can be found at the following website: https://www.fs.usda.gov/main/custergallatin/workingtogether/advisorycommittees.

Written comments may be submitted as described under Supplementary Information. All comments, including names and addresses when provided, are placed in the record and are available for public inspection and copying. The public may inspect comments received at the Custer Gallatin National Forest Supervisor's Office. Please call ahead at 406-587-6701 to facilitate entry into the building.

FOR FURTHER INFORMATION CONTACT: Karen Tuscano, RAC Coordinator, by phone at 406-223-2028 or via email at karen.tuscano@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Approve minutes from November 13, 2019 meeting;

2. Discuss, recommend, and approve new Title II projects; and

3. Review and give feedback on Dakota Prairie Grasslands fee proposals;

4. Discuss next meeting for the Southern Montana RAC which will provide; feedback on recreation fee proposals.

The meeting is open to the public. The agenda will include time for people to make oral statements of three minutes or less. Individuals wishing to make an oral statement should request in writing by Wednesday, May 20, 2020, to be scheduled on the agenda. Anyone who would like to bring related matters to the attention of the committee may file written statements with the committee staff before or after the meeting. Written comments and requests for time for oral comments must be sent to Karen Tuscano, RAC Coordinator, PO Box 1130, Big Timber, Montana 59011; by email to karen.tuscano@usda.gov, or via facsimile to 406-587-6758.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: May 12, 2020.
Cikena Reid,
USDA Committee Management Officer.

[FR Doc. 2020-10541 Filed 5-15-20; 8:45 am]

BILLING CODE 3411-15-P